SECURITIES AND EXCHANGE COMMISSION

Sunshine Act Meeting

Notice is hereby given, pursuant to the provisions of the Government in the Sunshine Act, Public Law 94-409, that the Securities and Exchange Commission will hold a Roundtable on Conflict Minerals on Tuesday, October 18, 2011, commencing at 12:30 p.m.

This Sunshine Act notice is being issued because a majority of the Commission may attend the meeting.

The Roundtable will take place in the Auditorium of the Commission's headquarters at 100 F Street, NE., Washington, DC. The Roundtable will be open to the public, with seating made available on a first-come, first-served basis. Doors will open at 12 p.m. Visitors will be subject to security checks.

The agenda for the meeting includes panel discussions addressing the Commission's required rulemaking under Section 1502 of the Dodd-Frank Wall Street Reform and Consumer Protection Act, which relates to reporting requirements regarding conflict minerals originating in the Democratic Republic of the Congo and adjoining countries.

For further information, please contact the Office of the Secretary at (202) 551-5400.

October 7, 2011.
Elizabeth M. Murphy,
Secretary.

[FR Doc. 2011-26514 Filed 10-7-11; 4:15 pm]

BILLING CODE 8011-01-P